FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012365-001.

Title: Volkswagen Konzernlogistik GmbH & Co. OHG/NYK Line Space Charter Agreement.

Parties: Volkswagen Konzernlogistik GmBH & Co. OHG and Nippon Yusen Kaisha.

Filing Party: Kristen Chung; NYK Line (North America) Inc.; 300 Lighting Way, 5th Floor; Secaucus, NJ 07094.

Synopsis: The amendment expands the geographic scope of the Agreement to cover all trades between the United States and any foreign country.

Agreement No.: 012367-004.

Title: MSC/Maersk Line Trans-Atlantic Space Charter Agreement.

Parties: Maersk Line A/S and MSC Mediterranean Shipping Company S.A.

Filing Party: Wayne R. Rohde, Esq.; Cozen O'Conner; 1200 19th Street NW.; Washington, DC 20036.

Synopsis: The amendment revises the amount of space being chartered under the Agreement.

Agreement No.: 012467.

Title: Weco Ro/Ro/Liberty Global Logistics LLC Space Charter Agreement.

Parties: Liberty Global Logistics LLC and Weco Ro/Ro.

Filing Party: Brooke Shapiro; Winston & Strawn LLP; 200 Park Avenue; New York, NY 10166.

Synopsis: The Agreement permits Liberty Global Logistics LLC and Weco Ro/Ro to charter space to and from one another on their respective vessels on an “as needed/as available” basis, up to the full reach of the vessel, to/from ports and points in the U.S., Mexico, Algeria, Morocco, Spain, Italy, Turkey, Lebanon, Egypt, Jordan, Saudi Arabia, and the United Arab Emirates.

Agreement No.: 012469.

Title: East Coast Gateway Terminal Agreement.

Parties: Virginia Port Authority and Georgia Ports Authority.

Filing Party: Paul Heylman; Saul Ewing LLP; 1919 Pennsylvania Ave. NW., Suite 550; Washington, DC 20006.

Synopsis: The Agreement authorizes Virginia Port Authority and Georgia Ports Authority to engage in discussions about marketing and commercial opportunities regarding carriers, operating systems and cargo handling, as well as permit them to enter into discussions with carriers, et al., as a single party.

Agreement No.: 012470.

Title: COSCO Shipping/PIL Slot Exchange Agreement—PNW/PSW.

Parties: COSCO Shipping Lines Co., Ltd. and Pacific International Lines (PTE) Ltd.

Filing Party: Eric Jeffrey; Nixon Peabody LLP; 799 9th Street NW., Suite 500; Washington, DC 20001.

Synopsis: The Agreement authorizes the Parties to exchange slots in the trade between ports in China (including Hong Kong), Korea, Japan, Singapore, Vietnam, and Canada and ports on the United States West Coast.

By Order of the Federal Maritime Commission.
Dated: February 27, 2017.
Rachel E. Dickon,
Assistant Secretary.

[FR Doc. 2017-04066 Filed 3-1-17; 8:45 am]

BILLING CODE 6731-AA-P